DEPARTMENT OF ENERGY

Federal Energy Regulatory Commission

Notice of Application Soliciting Motions To Intervene, Protests, Comments, Recommendations, Terms and Conditions, and Prescriptions

July 19, 2000.

Take notice that the following hydroelectric application has been filed with the Commission and is available for public inspection:

a. Type of Application: Amendment of Exemption.

b. Project No.: 7662-015.

c. Date filed: June 12, 2000.

d. Applicant: Reading Area Water Authority.

e. Name of Project: Ontelaunee.

f. Location: At Lake Ontelaunee in Berks County, Pennsylvania.

g. Filed Pursuant to: Federal Power Act, 16 USC 791(a)-825(r).

h. Applicant Contact: Gary D. Bachman, Van Ness Feldman, P.C., 1050 Thomas Jefferson Street, N.W., Washington, D.C. 20007, (202) 298-1800.

i. FERC Contact: Hector Perez, hector.perez@ferc.fed.us, 202-219-2843.

j. Deadline for filing motions to intervene, protest, comments, recommendations, terms and conditions, and prescriptions: 30 days from the issuance date of this notice.

All documents (original and eight copies) should be filed with: David P. Boergers, Secretary, Federal Energy Regulatory Commission, 888 First Street, NE, Washington, DC 20426.

The Commisison's Rules of Practice and Procedure require all interveners filing documents with the Commission to serve a copy of that document on each person on the official service list for the project. Further, if an intervener files comments or documents with the Commission relating to the merits of an issue that may affect the responsibilities of a particular resource agency, they must also serve a copy of the document on that resource agency.

k. The existing project consists of two units at the facility's gatehouse, 375-kW and 530-kW, respectively, and a 37-kW unit at a nearby filter plant. The applicant proposes to decommission the two units at the gatehouse by removing the units and disconnecting the transmission line that connects them to the grid.

The applicant also proposes to amend the conservation minimum flows. Presently, the applicant is required to maintain a minimum flow of 51 cubic feet per second (cfs) or the inflow to the reservoir, whichever is less. The applicant proposes to: (1) maintain a constant conservation flow of 51 cfs if the level of the reservoir is 302 feet; (2) maintain a constant conservation flow of 36 cfs if the reservoir level is between 300 and 302 feet; and (3) maintain a constant conservation flow of 27 cfs if the level of the reservoir is under 300 feet.

l. A copy of the application is available for inspection and reproduction at the Commission's Public Reference Room, located at 888 First Street, NE, Room 2A, Washington, D.C. 20426, or by calling (202) 208-1371. The application may be viewed on http://www.ferc.fed.us/online/rims.htm (call (202) 208-2222 for assistance). A copy is also available for inspection and reproduction at the address in item h above.

m. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding.

n. All filings must (1) bear in all capital letters the title “PROTEST”, “MOTION TO INTERVENE”, “COMMENTS”, “RECOMMENDATIONS”, “TERMS AND CONDITIONS”, or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). An additional copy must be sent to Director, Division of Environmental and Engineering Review, Office of Energy Projects at the address shown in item j and to the applicant's contact specified in item h above. The filing must include proof of service of the filing on all persons listed in the service list in this proceeding, in accordance with 18 CFR 4.34(b) and 385.2010.

David P. Boergers,
Secretary.

[FR Doc. 00-18698 Filed 7-24-00; 8:45 am]

BILLING CODE 6717-01-M